DEPARTMENT OF COMMERCE

National Oceanic and Atmospheric Administration

[RTID 0648-XD667]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council.

DATES: The meetings will be held Tuesday, February 6 through Wednesday, February 7, 2024. For agenda details, see SUPPLEMENTARY INFORMATION.

ADDRESSES: This meeting will be an in-person meeting with a virtual option. Council members, other meeting participants, and members of the public will have the option to participate in person at The Westin Arlington Gateway or virtually via Webex webinar. Webinar connection instructions and briefing materials will be available at: https://www.mafmc.org/briefing/february-2024.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, February 6, 2024

Atlantic Surfclam and Ocean Quahog Species Separation Requirements Amendment

Review and approve Public Hearing Document.

LUNCH

Business Session

Committee Reports (SSC); Executive Director's Report; Organization Reports; and Liaison Reports.

Other Business and General Public Comment

Briefing Book Tutorial

Legal Review, Financial Disclosure and Recusal Training—John Almeida, NOAA Fisheries

Wednesday, February 7, 2024

Offshore Wind Updates

Updates from the Bureau of Ocean Energy Management.

Updates from the state working group on a fisheries compensation fund administrator.

Updates from offshore wind project developers: Ørsted, Vineyard Wind, Kitty Hawk Wind, Community Offshore Wind.

Black Sea Bass Assessment Overview—Larry Alade, Kiersten Curti, NEFSC

Overview of recently completed Research Track stock assessment.

LUNCH

Sturgeon Framework

Review progress on joint Mid-Atlantic/New England Council action to reduce Atlantic Sturgeon interaction in the monkfish/dogfish gillnet fisheries.

Approve final packages of alternatives.

Northeast Fisheries Science Center (NEFSC) White Paper “Draft Proposed Plan for a Novel Industry Based Multispecies Bottom Trawl Survey on the Northeast U.S. Continental Shelf ”

—Dr. Kathryn Ford, NEFSC

Overview of the Industry-based survey white paper.

Consider next steps.

Awards Presentation

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: January 17, 2024.
Rey Israel Marquez,
Acting Deputy Director, Office of Sustainable Fisheries, National Marine Fisheries Service.

[FR Doc. 2024-01089 Filed 1-19-24; 8:45 am]

BILLING CODE 3510-22-P